NUCLEAR REGULATORY COMMISSION

Discrimination Task Group; Notice of Meetings

The NRC has formed a Discrimination Task Group, which is evaluating the NRC processes used in the handling of discrimination allegations and violations of employee protection standards (Applicable regulations include 10 CFR 30.7, 10 CFR 40.7, 10 CFR 50.7, 10 CFR 60.9, 10 CFR 61.9, 10 CFR 70.7, 10 CFR 76.7, 10 CFR 72.10, 10 CFR 150.20). The group is a management-level review group which is evaluating the Commission's handling of discrimination cases. The overall objective of the NRC employee protection regulations is to promote an atmosphere where employees feel comfortable raising safety concerns or engaging in other protected activity without fear of reprisal.

The group's overall objective is to develop recommendations for revisions to the regulatory requirements, the enforcement policy or other agency guidelines as appropriate. A Commission Paper will be developed outlining the recommendations for NRC offices to consider in making changes to their processes.

The Task Group is holding several public stakeholder meetings in various areas of the country to solicit input on areas of improvement in the Agency's handling of discrimination issues. In addition to the public meetings held or previously announced the following public meetings have been scheduled:

—A public meeting will be held, on October 5, 2000, at the USNRC Region III offices located 801 Warrenville Road, Lisle, IL 60532. This will be an evening meeting from 7 p.m. to 9 p.m.

—A public meeting will be held, on October 19, 2000, in Paducah, KY, at the Paducah Community College Engineering Building, Crounse Hall Main Lecture Hall, 4810 Alben Barkely Drive, Paducah, KY. This will be an evening meeting from 7 p.m. to 9 p.m.

—A public meeting will be held, on November 1, 2000, in Waterford, CT, at the Waterford Town Hall, 15 Rope Ferry Road. This will be an evening meeting from 7 p.m. to 9 p.m.

These public meetings are open to the members of the public. Oral or written views regarding the NRC's processes for handling employee protection issues may be presented by the members of the public, including members of the nuclear industry. Persons desiring to make prepared oral presentations or statements should notify Mr. Barry Westreich (Telephone 301/415-3456, e-mail BCW@nrc.gov) five days prior to the meeting date, if possible, so that appropriate arrangements can be made to allow necessary time during the meeting for such a presentation or statements. Use of still, motion picture, and television cameras as well as audio recording devices will be permitted during this meeting.

Further information regarding topics of discussion; whether the meeting has been canceled, rescheduled, or relocated; may be obtained by contacting Mr. Barry Westreich between 8 a.m. and 4:30 p.m. EDT.

For those unable to attend one of the public meetings on this issue, comments on the discrimination process can be submitted via the Office of Enforcement web site at http://www.nrc.gov/OE. and may also be submitted in writing addressed to Barry Westreich, Office of Enforcement, 11555 Rockville Pike, Rockville, MD 20852.

This meeting will not be transcribed but, if needed, a meeting report will be available electronically for public inspection on the Office of Enforcement Web site at http://www.nrc.gov/OE and in the NRC Public Document Room or from the Publicly Available Records (PARS) component of NRC's document system (ADAMS). ADAMS is accessible from the NRC Web site at http://www.nrc.gov/NRC/ADAMS/index.html (the Public Electronic Reading Room). The Task Group Charter and other pertinent documents related to Task Group Activities will also be periodically posted and updated on the Office of Enforcement Web site.

Dated at Rockville, Maryland this 19th day of September 2000.
For the Nuclear Regulatory Commission.
Richard W. Borchardt,
Director, Office of Enforcement.

[FR Doc. 00-24579 Filed 9-22-00; 8:45 am]

BILLING CODE 7590-01-P